DEPARTMENT OF STATE

[Public Notice: 12265]

Privacy Act of 1974; System of Records

AGENCY: Department of State.

ACTION: Notice of a modified system of records.

SUMMARY: This system of records comprises information gathered in connection with the Department's role in providing consular assistance to U.S. citizens overseas, and its role as the United States Central Authority under the Hague Adoption and Abduction Conventions.

DATES: In accordance with 5 U.S.C. 552a(e)(4) and (11), this system of records notice is effective upon publication, with the exception of routine uses E, F, G, K, M, N, O, P, R, S, U, V, W, X, Y, Z, AA, CC, DD, EE, FF, GG, HH, II, JJ, KK, LL, MM, and NN that are subject to a 30-day period during which interested persons may submit comments to the Department. Please submit any comments by December 20, 2023.

ADDRESSES: Questions can be submitted by mail, email, or by calling Eric F. Stein, the Senior Agency Official for Privacy, on (202) 485-2051. If by mail, please write to: U.S. Department of State; Office of Global Information Systems, A/GIS; 2201 C St. NW, Room 4534; Washington, DC 20520. If email, please address the email to the Senior Agency Official for Privacy, Eric F. Stein, at Privacy@state.gov. Please write “Overseas Citizens Services Records and Other Overseas Records, State-05” on the envelope or the subject line of your email.

FOR FURTHER INFORMATION CONTACT: Eric F. Stein, Senior Agency Official for Privacy; U.S. Department of State; Office of Global Information Services, A/GIS; 2201 C St., Room 4534 NW; Washington, DC 20520 or by calling (202) 485-2051.

SUPPLEMENTARY INFORMATION: The modified system of records notice includes revisions and additions to the following sections: Authority for Maintenance of the System; Purpose(s) of the System; Categories of Individuals Covered by the System; Categories of Records in the System; Record Source Categories; Routine Uses; Policies and Practices for Storage of Records; Policies and Practices for Retention and Disposal of Records; Administrative, Technical, and Physical Safeguards. In addition, this notice makes administrative updates to the following sections: Record Access Procedures, Contesting Record Procedures, Notification Procedures, and History. This notice is being modified to reflect the Department's move to cloud storage, new OMB guidance, updated contact information, new routine uses compatible with the provision of consular assistance, additional cited authorities, and a notice publication history.

System Name and Number: Overseas Citizens Services Records and Other Overseas Records, State-05.

Security Classification: Unclassified and Classified.

System Location: Department of State, Bureau of Consular Affairs, Overseas Citizens Services, SA-17, 10th Floor, Washington, DC 20522-1710 and overseas at U.S. embassies, U.S. consulates general, U.S. consulates, and U.S. consular agencies. Records may also be located within a government cloud provided, implemented, and overseen by the Department's Enterprise Server Operations Center (ESOC) 2201 C Street NW, Washington, DC 20520.

System Manager(s): Deputy Assistant Secretary for Overseas Citizens Services; SA-17, 10th Floor, Washington, DC 20522-1710 at (202) 485-6044. At overseas locations, the onsite system manager is the Chief of the Consular Section or another Department of State employee with responsibility for consular services as provided by the post in question.

Authority for Maintenance of the System:

(a) 8 U.S.C. 1104 (Powers and Duties of the Secretary of State);

(b) 22 U.S.C. 2656 (Management of foreign affairs);

(c) 22 U.S.C. 3904 (Functions of the Foreign Service, including protection of U.S. citizens in foreign countries pursuant to the Vienna Convention on Consular Relations and providing assistance to other agencies);

(d) 22 U.S.C. 211a et seq. (Passport application and issuance);

(e) 22 U.S.C. 2705 (Documentation of citizenship);

(f) 8 U.S.C. 1501-1504 (Adjudication of possible loss of nationality and cancellation of U.S. passports and CRBAs);

(g) 22 U.S.C. 1731 (Protection of naturalized U.S. citizens in foreign countries);

(h) 22 U.S.C. 1732 (Release of citizens imprisoned by foreign governments);

(i) 22 U.S.C. 2671(b)(2)(A)-(B) and (d) (Evacuation assistance and repatriation loans for destitute U.S. citizens abroad);

(j) 22 U.S.C. 2670(j) (Provision of emergency medical, dietary and other assistance);

(k) 22 U.S.C. 4802 (Overseas evacuations);

(l) 22 U.S.C. 2151n-1 (Assistance to arrested citizens) (Repealed, but applicable to past records);

(m) 22 U.S.C. 5503-5511 (Aviation disaster response);

(n) 22 U.S.C. 2715 (Procedures regarding major disasters and incidents abroad affecting United States citizens);

(o) 22 U.S.C. 2715a (Responsibility to inform victims and their families regarding crimes against U.S. citizens abroad);

(p) 22 U.S.C. 2715b (Notification of next of kin of death of U.S. citizens in foreign countries);

(q) 22 U.S.C. 2715c (Conservation and Disposition of Estates);

(r) 22 U.S.C. 4195, 4196 (Official notification of death of U.S. citizens in foreign countries; transmission of inventory of effects) (22 U.S.C. 4195 repealed, but applicable to past records);

(s) 22 U.S.C. 2729 (State Department records of overseas deaths of United States citizens from nonnatural causes);

(t) 22 U.S.C. 4197 (Assistance with disposition of estates of U.S. citizens upon death in a foreign country);

(u) 22 U.S.C. 4198 (Bond as Administrator or Guardian; Action on Bond);

(v) 22 U.S.C. 4193, 4194; 22 U.S.C. 4205-4207; 46 U.S.C. 10308, 10309, 10318 (Merchant seamen protection and relief);

(w) 22 U.S.C. 256 (Jurisdiction of consular officers in disputes between seamen);

(x) 46 U.S.C. 10704-10705 (Responsibility for deceased seamen and their effects);

(y) 22 U.S.C. 4215, 4221 (Administration of oaths, affidavits, and other notarial acts);

(z) 28 U.S.C. 1740, 1741 (Authentication of documents);

(aa) 28 U.S.C. 1781-1785 (Judicial Assistance to U.S. and foreign courts and litigants);

(bb) 28 U.S.C. 1608 (Service on a Foreign State);

(cc) 28 U.S.C. 1696 (Service in International and Foreign Litigation);

(dd) 42 U.S.C. 14901-14954; Intercountry Adoption Act of 2000, (Assistance with intercountry adoptions under the Hague Intercountry Adoption Convention, maintenance of related records);

(ee) 22 U.S.C. 9001-9011, International Child Abduction Remedies Act (Assistance to applicants in the location and return of children wrongfully removed or retained or for securing effective exercise of rights of access);

(ff) 22 U.S.C. 9101, 9111-9114, 9121-9125, 9141, International Child Abduction Prevention and Return Act of 2014 (Reporting requirements, prevention measures, and other assistance on international parental child abduction cases);

(gg) 6 U.S.C. 241, Prevention of International Parental Child Abduction;

(hh) 42 U.S.C. 1973ff-1973ff-6 (Overseas absentee voting);

(ii) 42 U.S.C. 402 (Social Security benefits payments);

(jj) 50 U.S.C. App. 453, 454, Presidential Proclamation No. 4771, July 2, 1980 as amended by Presidential Proclamation 7275, February 22, 2000 (Selective Service registration), and

(kk) 22 U.S.C. 3306 (Services to United States citizens on Taiwan).

Purpose(s) of the System: The primary purpose of this system of records is the furtherance of the Department of State's responsibilities to provide consular protection and services for U.S. citizens overseas, as well as its responsibilities as the United States Central Authority under the Hague Adoption and Abduction Conventions. Such responsibilities relate to matters including but not necessarily limited to: adjudication of claims relating to acquisition (providing Consular Report of Birth Abroad and passport services) or loss of U.S. citizenship; assistance to individuals abroad, including in death cases, loan and destitution cases, welfare and whereabouts cases, prisoner (including prisoner transfer) cases, arrest cases, hostage and kidnapping cases; assistance to minors, including to children who may be victims of abuse, neglect, or who are abandoned or runaways; assistance to individuals involved in child support enforcement proceedings; persons collecting federal benefits overseas; resolution of property, estate, and benefits claims arising under pertinent law; assistance to individuals involved in intercountry adoption cases and in possible or actual international child custody disputes and/or international parental child abduction cases, including the fulfillment of the Department's obligations and duties as the United States Central Authority under the Hague Adoption and Abduction Conventions and related authorities; and oversight of accredited and approved adoption service providers and the designated accrediting entities for intercountry adoption.

Categories of Individuals Covered by the System: Individuals, assisted by or who otherwise interact with the Department of State's Directorate of Overseas Citizens Services (OCS), within the Bureau of Consular Affairs, or by or with consular personnel overseas, who: (a) seek to establish a claim to U.S. nationality or inquire about possible loss of U.S. nationality; (b) apply for U.S. passports and/or Consular Reports of Birth of a U.S. Citizen Abroad; (c) register as U.S. persons living, studying, working, or traveling abroad to include U.S. persons who have demonstrated an intention to travel outside the United States through registering in the Department of State's Smart Traveler Enrollment Program; (d) request and/or receive information or assistance regarding travel abroad; (e) seek assistance from U.S. embassies and/or consulates overseas or from OCS; (f) initiate requests relating to another U.S. citizen's welfare and whereabouts or are themselves the subjects of such requests; (g) are reported as or are otherwise believed to be missing or held hostage overseas; (h) are or may be a victim of a crime abroad; (i) are involved in a case of child welfare abroad, including children who may be victims of abuse, neglect, or who are abandoned or are runaways; (j) are involved in a child support enforcement proceeding; (k) request and/or receive temporary refuge in a U.S. embassy or consulate; (l) request to be and/or are evacuated to the United States or a third country as a result of a civil disorder, natural disaster, or other emergency overseas; (m) request and/or receive assistance, including financial assistance, for repatriation and/or emergency needs; (o) are detained, arrested, or incarcerated overseas and/or their families; (p) request and/or receive notarial or authentication services or judicial assistance; (q) die overseas or are involved in the disposition of a decedent's personal estate; (r) have or assert an interest in property (real or personal) abroad; (s) are living overseas and claim or receive federal benefits; (t) have sought or received assistance or benefits by virtue of having been held hostage overseas or because of their relationship with a person held hostage overseas; (u) vote in U.S. federal and/or state elections while overseas; (v) register with the U.S. Selective Service System while living overseas; (w) are seamen inquiring about consular services; (x) request and/or receive information or assistance regarding the Children's Passport Issuance Alert Program, and/or other international parental child abduction prevention programs; (y) are involved in a possible or actual international child custody dispute and/or international parental child abduction case (covered individuals may include parents and/or guardians, child(ren), and/or any other parties to the case or dispute), including but not limited to a Hague Abduction Convention proceeding for return of or access to a child; (z) seek to adopt and/or adopt a child from a foreign country; (aa) participate in the intercountry adoption process; (bb) are children who are eligible for intercountry adoption and/or are adopted, and either immigrate to or emigrate from the United States, whether or not such adoption is covered by the Hague Convention on Protection of Children and Co-operation in Respect of Intercountry Adoption, Treaty Doc. 105-51, signed May 29, 1993 (Hague Adoption Convention) and its implementing legislation (Intercountry Adoption Act of 2000 (IAA), (42 U.S.C. 14901 et seq.)) and related regulations; (cc) seek to provide, have provided, and/or do provide intercountry adoption services, in connection with an intercountry adoption case whether or not such case is covered by the Hague Adoption Convention and the IAA; and (dd) contribute to, or are a subject of, a complaint in the Complaint Registry created pursuant to 22 CFR 96.68 et seq. Records may also pertain to individuals who are otherwise involved in the discussion, establishment, execution, or definition of United States foreign policy. The Privacy Act defines an individual at 5 U.S.C. 552a(a)(2) as a United States citizen or lawful permanent resident.

Categories of Records in the System: Emergency Medical and Dietary Assistance loan applications; repatriation and evacuation loan applications; past applications for benefits for hostages and/or their families; seamen services records; welfare and whereabouts records; records related to missing persons and hostage cases; Reports of Presumptive Death Abroad; records of U.S. citizens who register as visiting or residing overseas; records related to federal benefits and property claims; records related to arrest cases, death and estate cases, evacuation cases, prisoner, transfer cases, refuge cases, victims of crime cases, child abuse and neglect cases, abandoned children and runaway cases, ; records related to marriage; records related to publicly available attorney and medical professional lists; records related to judicial assistance cases; records related to intercountry adoption cases (including those covered under the Hague Intercountry Adoption Convention and the Intercountry Adoption Act of 2000); records related to possible or actual international child custody disputes and/or international parental child abduction cases, including but not limited to Hague Abduction Convention proceedings for return of or access to a child; and records related to minors entered into the Children's Passport Issuance Alert Program and other abduction prevention programs. OCS records may also include completed “Local American Citizens Skills/Resources Survey” forms; registration cards; interview worksheets; case notes; fingerprint cards; documents of identity; passenger manifests; and various related forms not otherwise stated. Records in the system may also include communications to and from: U.S. embassies, U.S. consulates, and consular agencies; federal, state, and local government agencies; members of Congress; officials of foreign governments; U.S. and foreign courts; U.S. and foreign nongovernmental organizations, including disaster or emergency relief organizations such as the International Red Cross, Red Crescent and others; the subject(s) of the records, their relatives, and other interested parties; records involving other legal matters; and other administrative records. In addition, the system may contain applications for passports and registration as U.S. citizens; Consular Reports of Birth Abroad; Certificates of Loss of Nationality of the United States; and Consular Reports of Death Abroad. Such records are maintained, stored, subject to and preserved as Passport Records, State-26.

Record Source Categories: These records contain information that is primarily obtained from the individual who is the subject of the records. Information may also be obtained from federal, state, local and foreign government entities and nongovernmental authorities and other relevant entities, commercial sources, and individuals in accordance with the fulfillment of consular responsibilities.

Routine Uses of Records Maintained in the System, Including Categories of Users and Purposes of Such Uses:

Records in the Overseas Citizens Services Records and Other Overseas Records system may be disclosed to:

A. The Social Security Administration, Office of Personnel Management, Department of Veterans Affairs, Railroad Retirement Board, Department of Labor, and Department of the Treasury in connection with administration of U.S. federal benefits to persons located abroad;

B. The Federal Aviation Administration and National Transportation Safety Board in connection with individuals traveling abroad and aviation accidents;

C. The Department of Commerce, U.S. Maritime Administration, and U.S. Coast Guard in connection with international commerce, shipping, and seamen;

D. The Department of Health and Human Services, U.S. Public Health Service, and Centers for Disease Control in connection with international travel and public health issues;

E. The Department of Health and Human Services, and its contractors' designees, in connection with repatriation of individuals abroad and child support enforcement;

F. The Department of Justice and its components, including the Drug Enforcement Administration and the Federal Bureau of Investigation (FBI) in connection with the arrest or detention of individuals overseas, prisoner transfer agreements, and in connection with reporting to the National Instant Criminal Background Check System (NICS);

G. The FBI's Victims Services Division in connection with assisting victims of crime;

H. The Foreign Claims Settlement Commission in connection with the adjudication of claims of individuals against foreign governments;

I. The Selective Service in connection with Armed Services registration requirements of individuals;

J. The Department of Defense, Department of Homeland Security, Department of Justice, and the Secret Service in connection with coordinating evacuations abroad;

K. The Department of Defense, or entities whose assistance it has requested, in connection with cases involving active-duty or former service members;

L. The Department of Homeland Security in connection with intercountry adoptions and in connection with processing of immigration and naturalization matters;

M. The Internal Revenue Service to provide current addresses of specifically identified taxpayers in connection with pending actions to collect taxes accrued, examinations, and/or other related tax activities, and to provide names, other personal identifying information, and current location of taxpayers who are held hostage, kidnapped, or detained abroad;

N. The Executive Office of the President in connection with consular functions and services;

O. Federal, state, territorial, tribal, local and foreign courts in connection with litigation and related matters, such as inquiries regarding child custody orders;

P. Foreign and domestic airlines and other transportation carriers in connection with assisting individuals in emergency situations, including those involving aviation or other transportation disasters, individuals who may pose a threat to themselves or others, and international child abduction cases;

Q. Shipping companies when the information is maintained pursuant to the Department's responsibilities under Titles 22 and 46 of the U.S. Code;

R. In connection with assisting individuals during a crisis, including war, civil unrest, or natural disasters, other individuals or entities including: federal, state, territorial, tribal, local, and foreign government authorities, congressional offices, airlines and other transportation carriers; in a crisis situation, information may also be disclosed to international or non-governmental organizations, family members, or medical personnel, or other private individuals or groups in a position to assist;

S. Private citizen liaison volunteers designated by U.S. embassies and U.S. consulates and further defined in Volume 7 of the Foreign Affairs Manual, who serve as channels of communication with other individuals in the local community, to prepare for and assist with evacuations, disasters, and other emergency situations;

T. Foreign-based organizations of private U.S. citizens to assist individuals in evacuations and other emergency situations;

U. Foreign governments including foreign embassies and consulates when the information is requested or provided pursuant to customary international practice, including in compliance with consular notification and access provisions set out in the Vienna Convention on Consular Relations and other matters related to detention and/or arrest by a foreign government; or to assist individuals in evacuations and other emergency situations; or to provide foreign governments with information on an individual's U.S. citizenship status in response to a request;

V. INTERPOL and international and foreign government entities in connection with health, safety, welfare and related matters, including but not limited to intercountry adoption and child abduction cases, custody disputes, cases of runaways and abused or neglected children, family abuse situations, missing persons, and notification of next of kin;

W. U.S. federal, state, territorial, tribal, and local government entities, in connection with health, safety, welfare and related matters, including but not limited to child abduction and intercountry adoption cases, custody disputes, cases of runaways and abused or neglected children, family abuse situations, missing persons, and notification of next of kin;

X. U.S. departments, agencies, and federal interagency bodies who assist in the recovery of, and investigation and prosecution of cases involving individuals taken hostage and/or in armed conflict, kidnapped, or who can provide assistance or support related to detentions abroad, when the detention is covered by or in order to assess applicable of Executive Order 13698, issued on June 24, 2015, and/or by the Robert Levinson Hostage Recovery and Hostage-Taking Accountability Act of 2020;

Y. Family members and family-designated representatives when the subject of the record is unable or unavailable to provide written consent to disclosure of information, is involved in an emergency, and the disclosure is for the benefit of the subject;

Z. Family members and family-designated representatives when the subject of the record has disappeared or gone missing, in circumstances where it appears likely that the individual has died, and the release is for the benefit of the individual, his estate or his next of kin;

AA. Members of Congress when the information is requested on behalf of a family member or representative of the individual to whom disclosure is authorized under routine uses Y or Z;

BB. To the subject of a welfare/whereabouts inquiry where the inquirer requests that the Department provide information to the subject for the purpose of establishing contact or passing a message;

CC. Hospitals, shelters, hotels, hostels, study abroad institutions, group travel company offices, and other entities where U.S. citizens needing assistance could be located, to inquire if a subject of a welfare/whereabouts case may be present in their facility;

DD. A minor's educational institution, in cases involving the minor's health, safety, or welfare;

EE. Attorneys, or other professional service providers, when the individual to whom the information pertains is the client of the attorney or other provider making the request, or when the attorney or other provider is acting on behalf of some other individual to whom access is authorized under this notice, or in connection with litigation or administrative proceedings;

FF. Translators at the request of consular personnel or an applicant for consular services abroad, in connection with provision of consular services or other official purposes;

GG. Funeral homes and related service providers in connection with the death abroad of an individual;

HH. The news media in furtherance of a consular function, as determined by the Bureau of Consular Affairs, where disclosure could not reasonably be expected to constitute an unwarranted invasion of personal privacy or to have an undue adverse effect on either the subject or individuals associated with the subject, where there is a legitimate public interest in the information disclosed. Such consular functions may include providing information regarding arrests of U.S. citizens, to provide alerts, assessments, or similar information on potential threats to life, health, or property, or to keep the public appropriately informed of other consular matters;

II. Duly accredited, and Department-authorized, DNA relationship testing facilities in connection with consular services or functions, including adjudication of claims to U.S. citizenship;

JJ. With respect to intercountry adoption and international parental child abduction cases, records may be shared with:

(1) Individuals and entities identified by governments to assist in intercountry adoption and abduction cases, including adoption service providers, Bar Associations, and legal aid services;

(2) biological and adoptive parents, guardians, and children involved in intercountry adoption and abduction cases; and

(3) the Hague Conference on Private International Law;

KK. With respect to international abduction cases:

(1) The National Center for Missing and Exploited Children;

(2) Appropriate foreign government authorities, including central authorities of, and bodies duly accredited in, State Parties to the Hague Abduction Convention, in connection with specific child abduction cases;

(3) members of the International Hague Network of Judges; and

(4) prospective attorneys pursuant to a request for legal assistance;

LL. With respect to intercountry adoption cases:

(1) Central authorities of, and bodies duly accredited in, State Parties to the Hague Adoption Convention, and any other relevant competent authority that has jurisdiction and authority to make decision in matters of child welfare including adoption in a foreign State;

(2) organizations designated by the Department of State as Accrediting Entities in accordance with the IAA in connection with accreditation or approval or monitoring of adoption service providers; and

(3) adoption service providers in connection with the health, safety, and welfare of participants in intercountry adoptions as well as diplomatic inquiries regarding compliance with the Hague Adoption Convention, the IAA, and compliance with accreditation standards;

MM. Appropriate agencies, entities, and persons when (1) the Department of State suspects or has confirmed that there has been a breach of the system of records; (2) the Department of State has determined that as a result of the suspected or confirmed breach there is a risk of harm to individuals, the Department of State (including its information systems, programs, and operations), the federal government, or national security; and (3) the disclosure made to such agencies, entities, and persons is reasonably necessary to assist in connection with the Department of State efforts to respond to the suspected or confirmed breach or to prevent, minimize, or remedy such harm;

NN. Another federal agency or federal entity, when the Department of State determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

This information may also be released on a need-to-know basis to other government agencies having statutory or other lawful authority to maintain such information. Disclosure of passport applications, Consular Reports of Birth Abroad, Certificates of Loss of Nationality of the United States, Consular Reports of Death, and related documentation, is subject to the routine uses specified in this notice as well as to the routine uses set forth in the System of Records Notice for Passport Records, STATE-26.

The Department of State periodically publishes in the Federal Register its standard routine uses that apply to all its Privacy Act systems of records. These notices appear in the form of a Prefatory Statement (published in Volume 73, Number 136, Public Notice 6290, on July 15, 2008). All these standard routine uses apply to Overseas Citizens Services Records and Other Overseas Records, State-05.

Policies and Practices for Storage of Records: Records are stored both in hard copy and on electronic media. A description of standard Department of State policies concerning storage of electronic records is found here https://fam.state.gov/FAM/05FAM/05FAM0440.html. All hard copies of records containing personal information are maintained in secured file cabinets in restricted areas, access to which is limited to authorized personnel only.

Policies and Practices for Retrieval of Records: By individual name, birth date, or other personal identifier if available.

Policies and Practices for Retention and Disposal of Records: Records are retired and destroyed in accordance with published Department of State Records Disposition Schedules as approved by the National Archives and Records Administration (NARA) and outlined here https://foia.state.gov/Learn/RecordsDisposition.aspx. The retention period for Overseas Citizens Services Records and Other Overseas Records spans from two years to permanent, depending on the specific purpose of the collection and the nature of the information. Some files related to requests for government benefits and miscellaneous facilitative services are destroyed six months or one year after issuance. In some instances, files with historical significance are permanent records. Most files related to American Citizens Services consular assistance cases are stored in the Consular Consolidated Database and are retained for 20 years after closure of the case. More specific information may be obtained by writing to the following address: U.S. Department of State; Director, Office of Information Programs and Services; A/GIS/IPS; 2201 C Street NW; Room B-266; Washington, DC 20520.

Administrative, Technical, and Physical Safeguards: All users are given cyber security awareness training which covers the procedures for handling Sensitive but Unclassified information, including personally identifiable information (PII). Annual refresher training is mandatory. In addition, all Department OpenNet users are required to take the Foreign Service Institute's distance learning course instructing employees on privacy and security requirements, including the rules of behavior for handling PII and the potential consequences if it is handled improperly. Before being granted access to Overseas Citizens Services Records and Other Overseas Records, a user must first be granted access to the Department of State computer system. Employees and contractors are instructed that, as a general matter, any disclosure of Department-maintained information about an individual should be of the minimum amount of information reasonably necessary to accomplish the Department objective and undertaken in accordance with guidance contained in the Foreign Affairs Manual.

Department of State employees and contractors may remotely access this system of records using non-Department owned information technology. Such access is subject to approval by the Department's access program and is limited to information maintained in unclassified information systems. Remote access to the Department's information systems is configured in compliance with OMB Circular A-130 multifactor authentication requirements and includes a time-out function.

All Department of State employees and contractors with authorized access to records maintained in this system of records have undergone a thorough background security investigation. Access to the Department of State, its annexes and posts abroad is controlled by security guards and admission is limited to those individuals possessing a valid identification card or individuals under proper escort. Access to computerized files is password-protected and under the direct supervision of the system manager. The system manager has the capability of printing audit trails of access from the computer media, thereby permitting regular and ad hoc monitoring of computer usage. When it is determined that a user no longer needs access, the user account is disabled.

The safeguards in the following paragraphs apply only to records that are maintained in government-certified cloud systems. All cloud systems that provide IT services and process Department of State information must be specifically authorized by the Department of State Authorizing Official and Senior Agency Official for Privacy.

Information that conforms with Department-specific definitions for FISMA low, moderate, or high categorization are permissible for cloud usage and must specifically be authorized by the Department's Cloud Management Office and the Department of State Authorizing Official. Specific security measures and safeguards will depend on the FISMA categorization of the information in a given cloud system. In accordance with Department policy, systems that process more sensitive information will require more stringent controls and review by Department cybersecurity experts prior to approval. Prior to operation, all Cloud systems must comply with applicable security measures that are outlined in FISMA, FedRAMP, OMB regulations, National Institute of Standards and Technology (NIST) Special Publications (SP) and Federal Information Processing Standards (FIPS) and Department of State policies and standards.

All data stored in cloud environments categorized above a low FISMA impact risk level must be encrypted at rest and in-transit using a federally-approved encryption mechanism. The encryption keys shall be generated, maintained, and controlled in a Department data center by the Department key management authority. Deviations from these encryption requirements must be approved in writing by the Department of State Authorizing Official. High FISMA impact risk level systems will additionally be subject to continual auditing and monitoring, multifactor authentication mechanisms utilizing Public Key Infrastructure (PKI) and NIST 800-53 controls concerning virtualization, servers, storage, and networking, as well as stringent measures to sanitize data from the cloud service once the contract is terminated.

Record Access Procedures: Individuals who wish to gain access to or to amend records pertaining to themselves should write to U.S. Department of State; Director, Office of Information Programs and Services; A/GIS/IPS; 2201 C St. NW, Room B-266; Washington, DC 20520. The individual must specify that he or she wishes Overseas Citizens Services Records and Other Overseas Records to be checked. At a minimum, the individual must include: full name (including maiden name, if appropriate) and any other names used; current mailing address and zip code; date and place of birth; notarized signature or statement under penalty of perjury; a brief description of the circumstances that caused the creation of the record (including the city and/or country and the approximate dates) which gives the individual cause to believe that Overseas Citizens Services Records and Other Overseas Records include records pertaining to him or her. A request to search Overseas Citizens Services Records and Other Overseas Records, STATE-05, will be directed to the Passport Office when it pertains to passport, registration, citizenship, birth or death records, and any records transferred from STATE-05 to STATE-26. Detailed instructions on Department of State procedures for accessing and amending records can be found at the Department's FOIA website (https://foia.state.gov/Request/Guide.aspx).

Contesting Record Procedures: Individuals who wish to contest record procedures should write to U.S. Department of State; Director, Office of Information Programs and Services; A/GIS/IPS; 2201 C St. NW, Room B-266; Washington, DC 20520.

Notification Procedures: Individuals who have reason to believe that this system of records may contain information pertaining to them may write to U.S. Department of State; Director, Office of Information Programs and Services; A/GIS/IPS; 2201 C St. NW; Room B-266; Washington, DC 20520. The individual must specify that he/she wishes the Overseas Citizens Services Records and Other Overseas Records to be checked. At a minimum, the individual must include: full name (including maiden name, if appropriate) and any other names used; current mailing address and zip code; date and place of birth; notarized signature or statement under penalty of perjury; a brief description of the circumstances that caused the creation of the record (including the city and/or country and the approximate dates) which gives the individual cause to believe that Overseas Citizens Services Records and Other Overseas Records include records pertaining to him or her. At a minimum, the individual must submit a request that complies with 22 CFR part 171.

Exemptions Promulgated for the System: Pursuant to 5 U.S.C. 552a (k)(1), (k)(2), (k)(3), (k)(4), and (k)(5), certain records contained within this system of records may be exempt from subsections 5 U.S.C. 552a(c)(3), (d), (e)(1), (e)(4)(G), (e)(4)(H), (e)(4)(I) and (f).

History: Previously published at 81 FR 62235.

Eric F. Stein,
Deputy Assistant Secretary, Global Information Services (A/GIS), U.S. Department of State.

[FR Doc. 2023-25571 Filed 11-17-23; 8:45 am]

BILLING CODE 4710-06-P